DEPARTMENT OF EDUCATION

Office of Vocational and Adult Education; Overview Information; Financial Education for College Access and Success Program; Notice Inviting Applications for New Awards for Fiscal Year (FY) 2010

Catalog of Federal Domestic Assistance (CFDA) Number: 84.215W.

Dates: Applications Available: July 26, 2010.

Deadline for Notice of Intent to Apply: August 5, 2010.

Deadline for Transmittal of Applications: September 9, 2010.

Full Text of Announcement

I. Funding Opportunity Description

Purpose of Program: The Financial Education for College Access and Success program is authorized under the Fund for the Improvement of Education Program (FIE), title V, part D, subpart 1, sections 5411 through 5413 of the Elementary and Secondary Education Act of 1965, as amended (ESEA) (20 U.S.C. 7243-7243b). FIE supports nationally significant programs to improve the quality of elementary and secondary education at the State and local levels and help all children meet challenging State academic content and student academic achievement standards. Through the Financial Education for College Access and Success Program, we will support State-led efforts to develop, implement, and evaluate the effectiveness of personal finance instructional materials and corresponding teacher training, with the express purpose of providing high school students with knowledge and skills to make sound financial aid and other personal finance decisions, particularly in relation to obtaining access to, persisting in, and completing postsecondary education.

Background: President Barack Obama, in his February 24, 2009 address to a Joint Session of Congress, asked every American to commit to at least one year or more of higher education or career training, in a community college, in a four-year postsecondary institution, through career and technical education courses, or in an apprenticeship. President Obama stated that “This country needs and values the talents of every American”, and set a new goal that by 2020, the United States of America would once again have the highest proportion of college graduates in the world.

One of the barriers to achieving this goal is the lack of financial literacy in America, especially among youth. Studies indicate that many Americans do not have the skills they need to make sound financial decisions, including decisions about postsecondary education, for themselves or their families. For example—

(1) Debt literacy—an understanding of how borrowing money works and the ability to perform related calculations—is low across age groups, and this has been found to correlate with making unfavorable borrowing choices; ¹

¹ Lusardi, Annamaria, and Tufano, Peter. “Debt Literacy, Financial Experience, and Overindebtedness.” Preliminary Draft, 2008.

(2) High school students generally have low levels of financial literacy across a variety of topics according to their results on personal finance exams; ²

² Mandell, Lewis “Results of the 2008 National Jump$tart Coalition: Survey of College Seniors and College Students,” Jump$tart Coalition® for Personal Literacy, 2008.

The National Financial Capability Challenge at, http://www.challenge.treas.gov.

(3) Families often overestimate the price of college and believe it is out of their financial reach, perhaps confusing advertised and actual prices; ³

³ Getting Ready to Pay for College: What Students and Their Parents Know About the Cost of College Tuition and What They Are Doing to Find Out U.S., Department of Education, National Center for Educational Statistics, 2003.

(4) Nearly two million low- and moderate-income undergraduates do not submit a Free Application for Federal Student Aid (FAFSA) to apply for Federal financial aid, even though many of them are eligible for Pell Grants, which they would not have to repay; ⁴ and

⁴ American Council on Education. Missed Opportunities Revised: New Information on Students Who Do Not Apply for Financial Aid. Issue Brief, February 2006.

(5) A 2009 report by The Institute for College Access and Success found that 64 percent of students who took on costly private loans had not yet exhausted their eligibility for more flexible and affordable Federal loans.⁵

⁵ The Project on Student Debt: An Initiative for College Access and Success. Private Loans: Facts and Trends, Aug. 2009.

Together, these problems have major consequences for students. Only 31 percent of students from low-income families attend some form of postsecondary education, as compared to 56 percent of students from middle-income families and 75 percent of students from high-income families.⁶ Once students enroll in postsecondary education, one of the primary reasons they drop out of college is because they lack the financial resources to continue.⁷ And students who do graduate from college finish with more and more accumulated credit card and student loan debt each year.⁸

⁶ Institute for Higher Education Policy, Cost Perceptions and College-Going for Low-Income Students. Research Policy Brief, Spring 2010.

⁷ Johnson, Jean, and Rochkind, Jon. “With Their Whole Lives Ahead of Them: Myths and Realities About Why So Many Students Fail to Finish College.” A Public Agenda Report for the Bill and Melinda Gates Foundation, 2009.

⁸ SallieMae Champions for Higher Education. How Undergraduate Students Use Credit Cards: Sallie Mae's National Study of Usage Rates and Trends 2009. 2009.

The Project on Student Debt: An Initiative for College Access and Success. Student Debt and the Class of 2008. 2009.

Research has also shown that students appear to receive limited support from counselors and teachers in the area of personal finance decision-making. A Public Agenda survey of young adults found that they give very low marks to guidance counselors when it comes to preparing them to make decisions about college.⁹ A national survey of teachers conducted by the University of Wisconsin found that teachers are overwhelmingly underprepared to teach personal finance to their students.¹⁰ In the teacher study, 64 percent of teachers responding to the survey said they felt unqualified to utilize their State's personal finance standards. When asked about professional development needs, the teachers listed financial education subject matter and pedagogy, ways to integrate financial concepts throughout multiple disciplines, and how to use the State standards as those areas in which further professional development was needed.

⁹ Johnson, Jean, and Rochkind, Jon. “With Their Whole Lives Ahead of Them: Myths and Realities About Why So Many Students Fail to Finish College.” A Public Agenda Report for the Bill and Melinda Gates Foundation, 2009.

¹⁰ Way, Wendy L, and Holden, Karen. “Teachers' Background and Capacity to Teach Personal Finance: Results of a National Study.” National Endowment for Financial Education, 2010.

Even though there have been a number of financial literacy efforts initiated across the country, and notwithstanding the growing focus on improving awareness and delivery of student financial aid, too few financial literacy initiatives prepare teachers to provide students with financial decision-making skills that lead to college access and success. Therefore, the Secretary is establishing an absolute priority and associated requirements for applications that propose to develop, implement, and evaluate personal finance instructional materials and corresponding teacher training toward that end.

While the Secretary recognizes, as do many teachers, that students should begin learning about personal finance and the benefits of postsecondary education in early elementary grades, this program focuses on high school students because high school is a time when most students make critical decisions related to postsecondary education.¹¹

¹¹ Otter, Dan. “Teacher Attitudes and Beliefs About Teaching Financial Literacy.” Pollinate, the Teacher Financial Literacy Project, 2010.

The Secretary additionally recognizes that, to be most successful, this effort to improve students' financial literacy must leverage other resources to ensure effective implementation and continuous improvement. For this reason, the Secretary is establishing a competitive preference priority for States that propose to provide funds or in-kind contributions to support the project through existing State and local resources, or funding from philanthropic organizations or private sector sources.

Priorities: We are establishing these priorities for the FY 2010 grant competition, and any subsequent year in which we make awards from the list of unfunded applicants from this competition, in accordance with section 437(d)(1) of the General Education Provisions Act (GEPA), 20 U.S.C. 1232(d)(1).

Absolute Priority: Under 34 CFR 75.105(c)(3) we consider only applications that meet this priority.

This priority is:

Absolute Priority—Financial Education for College Access and Success Program.

Under this priority, the Department provides funding to support projects that are designed to develop, implement, and evaluate (1) personal finance instructional materials that focus on knowledge and skills to help high school students in high-need LEAs make sound financial decisions regarding student financial aid and other financial matters in order to obtain access to, persist in, and complete postsecondary education; and (2) training that prepares teachers to integrate the instructional materials in one or more high school courses (e.g., career and technical education (CTE) courses, social studies, economics, mathematics, personal finance).

Competitive Preference Priority: This priority is a competitive preference priority. Under 34 CFR 75.105(c)(2)(i) we award up to an additional 5 points to a State, depending on how well the State's application meets this priority.

This priority is:

Competitive Preference Priority—Commitment of Additional Funding to the Project.

We give competitive preference to applications where States propose to provide funds or in-kind contributions to support the project through existing State and local resources, or funding from philanthropic organizations or private sector sources (See 34 CFR 80.24 for information on cost sharing and third party in-kind contributions). For each 10 percent of the State's proposed budget that will be contributed from such other sources, up to a maximum of 50 percent, 1 point will be awarded, up to a maximum of 5 points. Non-Federal contributions may include in-kind contributions such as facilities, equipment, supplies, services, and other resources.

Invitational Priority: This priority is an invitational priority. Under 34 CFR 75.105(c)(1) we do not give an application that meets this invitational priority a competitive or absolute preference over other applications.

This priority is:

Invitational Priority—Service-learning.

The Department is interested in applications from States that include the use of service-learning as an approach in support of its project, such as college students engaging with high school students, or high school students engaging with elementary school students, on the topics covered by this notice.

Application Requirements: We are establishing these application requirements for the FY 2010 grant competition, and any subsequent year in which we make awards from the list of unfunded applicants from this competition, in accordance with section 437(d)(1) of GEPA, 20 U.S.C. 1232(d)(1).

(a) To be considered for funding under the Financial Education for College Access and Success program, a State must meet the absolute priority and the requirements specified in the priority; and demonstrate that its proposed project will improve the ability of high school students to make sound financial decisions regarding student financial aid and other financial matters in order to obtain access to, persist in, and complete postsecondary education.

(b) The State's application must describe a plan for the entire 4-year project period, including goals and objectives for each year of the project. To this end, the State must demonstrate, in the narrative section of the application, how it would meet the following requirements.

Development and implementation of instructional materials.

The State must demonstrate how—

(a) The personal finance instructional materials will be developed as open education resources, which are teaching, learning, and research resources that reside in the public domain or have been released under an intellectual property license that permits their free use or repurposing by others, designed to be—

(1) Multi-unit, portable instructional materials that can be implemented as stand-alone units, integrated into one or more high school courses, and, to the extent feasible and appropriate, integrated to form a comprehensive personal finance curriculum that covers a variety of college-related personal finance topics;

(2) Interactive and experiential (i.e., activity-focused, not primarily lecture-focused, including the use of real documents when possible and connecting with social networking opportunities and interfaces), and enable personalization for each student;

(3) Based on research on effective instructional design that is informed by relevant areas of economic research, including the psychology of decision-making and behavioral economics;

(4) Designed to incorporate online components; and

(5) Updated regularly, with input from teachers and other stakeholders involved in this project, to keep pace with changes in student financial aid information and with online and mobile technologies, such as online banking, electronic credit reports, and mobile budgeting alerts;

(b) The instructional materials will be developed to—

(1) Promote the basic numeracy and number sense skills students need to make sound financial decisions, including, but not limited to—

(i) Proportional reasoning;

(ii) Interest rates, charges, and compounding;

(iii) Inflation; and

(iv) The comparison of costs for different financial products and services;

(2) Align with the appropriate State standards, including the State's mathematics and personal finance standards;

(3) At a minimum, cover—

(i) Federal student aid, including the role of the FAFSA; the types of aid available, including grants, loans, and work-study; Federal loan repayment options, such as income-based repayment and public service loan forgiveness; and a comparison of Federal student aid and other college financing options, such as credit cards and private loans, and Federal grants and work-study;

(ii) Scholarships;

(iii) Credit products, including—

(A) Credit cards and debit cards, and proper handling of these cards to avoid bad credit; and

(B) Credit scores and credit reports as they relate to borrowing ability and borrowing costs, insurability, and employability;

(iv) Financial institutions, services, and products available to students and the risks and costs associated with them, including—

(A) Banks and credit unions and the proper handling of accounts to avoid fees or being denied access to accounts; and

(B) Alternative financial services, such as payday lenders and check-cashing services, and the fees associated with these services;

(v) The costs and benefits of postsecondary education, including—

(A) The advertised price versus net price and the role of State and institutional financial aid;

(B) Projected earnings for different careers, with and without postsecondary education; and

(C) Projected debt and related interest costs for different postsecondary programs at various institutions;

(vi) United States Department of Veterans Affairs Education Benefits;

(vii) Segal AmeriCorps Education Awards;

(viii) Student and family contributions to education expenses from income and savings; and

(ix) Taxes, including Federal and State income tax returns;

(c) The State will make use of available materials and other resources from the Federal government, States, national organizations, or other sources, as appropriate; and best practices in developing, disseminating, and promoting use of open education resources, including optimal licensing arrangements, that would be used to inform the development and use of the instructional materials;

(d) The State will design project activities and identify participant schools in a way that takes into account and leverages other courses and programs that provide financial literacy and related instruction (such as TRIO Talent Search, TRIO Upward Bound, GEAR-UP, and College Access Challenge Grants). In addition, where available, the State should provide information on whether secondary schools and LEAs in the State will be participating in the FAFSA completion project (http://www2.ed.gov/finaid/info/apply/fafsa-project.html) to identify students who have not completed a FAFSA, in order to better target assistance, and describe how this information will be used when identifying participant schools and conducting the required project evaluation described elsewhere in this notice;

(e) The State will identify or develop interim and summative assessments that produce valid and reliable information on student progress in the mastery of the content included in the proposed personal finance instructional materials and could be used for the program evaluation; and

(f) The State will—

(1) Identify one or more high school courses into which the proposed instructional materials are intended and proposed to be integrated. The primary venue for the instructional materials must be high school classrooms. However, States may propose to implement the instructional materials in additional settings, such as after-school programs, and student financial aid workshops;

(2) Ensure that the proposed instructional materials in the selected school courses will be of sufficient duration and offered to a sufficient number of students attending schools in high-need LEAs to determine the effectiveness of the project and include in the application an estimate of the number of students expected to enroll in the selected school courses in each participating high-need LEA and the number of teachers who would be teaching students in the selected courses. For the purposes of this competition, we are using the definition of high-need LEA used in section 14013 of the American Recovery and Reinvestment Act of 2009 (ARRA), which is an LEA (a) that serves not fewer than 10,000 children from families with incomes below the poverty line; or (b) for which not less than 20 percent of the children served by the LEA are from families with incomes below the poverty line; and

(3) Identify two or more high-need LEAs in which the instructional materials would be implemented, beginning in year 2, and include a list of these high-need LEAs in its application. By the end of year 1, and continuing each year for years 2 through 4 of the project, the grantee must obtain written commitment from each participating LEA, or a school within an LEA if the entire LEA will not participate, that will implement the instructional materials.

Teacher training on personal finance instructional materials.

The State must demonstrate how—

(a) The personal finance training provided to high school teachers who would be teaching the personal finance instructional materials to students is of sufficient quality, intensity, and duration to lead to improvements in practice among the teachers that receive the training, and include in the application an estimated number of teachers to be trained each year during the project period;

(b) Training, ongoing support, and technical assistance will be provided to teachers and LEAs within the State, such as providing opportunities for collaboration among teachers, using a train-the-trainer model whereby teachers train other teachers, and using distance learning components, such as interactive television; and

(c) The State will provide incentives for high school teacher participation in personal finance training, such as by providing participating teachers with stipends, graduate degree credit, or Continuing Education Units for participating in the training. The primary audience for the training must be high school teachers. However, in furtherance of project goals and purposes, States may also propose to provide personal finance training to individuals other than high school teachers, including, but not limited to, guidance counselors and after-school program staff.

Project Team.

The State must—

(a) Demonstrate that the project team proposed by the State that will work with the State to carry out the project—

(1) Has experience and expertise in each of the following areas—

(i) Instructional materials development;

(ii) Teacher training;

(iii) Program evaluation;

(iv) Financial literacy;

(v) Financial aid;

(vi) Student debt; and

(vii) College access and success programs;

(2) Includes individuals who represent the needs of or work with students in high-need LEAs;

(3) Includes representatives from—

(i) State agencies administering elementary and secondary education, career and technical education (CTE), and postsecondary education (both two- and four-year institutions);

(ii) State agencies, commissions, or other entities focused explicitly on financial literacy, college access, or student financial aid issues (e.g., Treasurer, Comptroller, Department of Banking, Corporation for National and Community Service State Office and Commission, the State agency that administers the College Access Challenge Grant Program); and, at the discretion of the State,

(iii) Institutions of higher education (IHEs), including professors or financial aid administrators;

(iv) LEAs (including high-need LEAs), including superintendents, principals, and teachers; and

(v) Non-profit organizations, companies, or philanthropic organizations; and

(b) Include in its application--

(1) The title and position description of each confirmed and potential member of the project team, including the project director, principal investigator, and other key project personnel;

(2) A description of the roles and responsibilities of each member;

(3) A description of how the project team will function, including how the project team will elicit ongoing input from stakeholders and develop a collaborative network of stakeholders to ensure the continuing success of the project;

(4) When and how often the team will meet; and

(5) A resume for each of the confirmed members of the project team (as an attachment or appendix to the application).

State's existing financial literacy activities.

The State must describe—

(a) The State's existing financial literacy education requirements, including the State's personal finance standards and current State requirements for their implementation at the LEA level; and

(b) The State's existing K-12 State efforts related to financial literacy education activities and college access and success, such as—

(1) Teacher training, curriculum, and assessment development;

(2) High school courses, or course components;

(3) Extracurricular programs, such as college readiness and student financial aid training; and

(4) The collection of assessment data on student outcomes for students enrolled in those courses or programs.

Project evaluation.

The State must demonstrate that—

(a) The State will have a comprehensive plan for evaluating the effectiveness of the project in preparing high school students with knowledge and skills to make sound financial decisions regarding student financial aid and other financial matters in order to obtain access to, persist in, and complete postsecondary education; and for evaluating whether the training provided to teachers adequately prepared them to integrate the personal finance instructional materials into courses and effectively instruct students using the instructional materials. To this end, the State, in its application, must—

(1) Propose an evaluation design that will assess the effects of the project on participant outcomes. Where feasible, applicants must propose an experimental or quasi-experimental evaluation design for the project that will allow an accurate assessment of the effect of the project on participating students and teachers relative to appropriate comparison or control groups. The design should take into account the participation in other courses and programs (such as TRIO Talent Search, TRIO Upward Bound, GEAR UP, and College Access Challenge Grants) that provide students with financial literacy and related instruction. At a minimum, the design must assess the effects of the project on participant outcomes by administering a pre-test and multiple post-tests.

(2) Describe the State's proposed sampling plans, data collection methodology (including any plans to use information available through State longitudinal data systems), methodology for identifying appropriate control or comparison groups, strategies for dealing with missing data, assessment instruments, and data analysis plans in sufficient detail to allow reviewers of applications to judge the appropriateness of the proposed methods; and

(b) The State's project evaluation plan must, at a minimum, include plans to—

(1) Measure the effect of the project on students' knowledge and behaviors, including rates of FAFSA completion (the Department will assist entities that participate in the FAFSA completion project with tracking FAFSA completion, and hopes to expand this program in the future), college enrollment, decisions regarding financial aid, and use of financial products and services; the evaluation plan may also measure the effect of the program on participating students' attitudes;

(2) Measure the effect of the project on the knowledge, attitudes, and instructional skills of participating teachers;

(3) Annually examine project performance by comparing actual accomplishments with the goals and objectives established for each project year;

(4) Describe how data will be used to manage project implementation, inform decision-making, engage stakeholders, and measure success; and

(5) Ensure that the use of data will be consistent with the requirements and protections contained in the Family Educational Rights and Privacy Act (FERPA).

Dissemination.

The State must demonstrate that it will work closely with the Department to disseminate and promote the use of personal finance instructional materials and teacher training materials found to be effective, including implementing strategies to:

(a) Make materials widely available and accessible to LEAs within the State—

(i) Through open education resource repositories, Web sites, and other mechanisms, so others can use and customize the materials, such as having them translated into multiple languages, and for use in multiple settings; and

(ii) At low or no cost to participating LEAs for hard-copy materials, and at no cost for online components;

(b) Make available to other States through open education resource repositories, Web sites, and other mechanisms, its personal finance instructional materials, teacher training materials, and other practical information about the project that would be useful to other States in their efforts to implement financial literacy programs; and

(c) Ensure that all project materials available to States, LEAs, teachers, and, if appropriate, students will be accessible to individuals with disabilities consistent with the requirements and protections contained in Section 504 of the Rehabilitation Act of 1973, as amended.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This is the first grant competition for the Financial Education for College Access and Success program and, therefore, qualifies for this exemption. In order to ensure timely grant awards, the Secretary has decided to forgo public comment on the priorities, definitions, and requirements under section 437(d)(1) of GEPA. These priorities, definitions, and requirements will apply to the FY 2010 grant competition and any subsequent year in which we make awards based on the list of unfunded applicants from this competition.

Program Authority: 20 U.S.C. 7243-7243b.

Applicable Regulations: The Education Department General Administrative Regulations (EDGAR) in 34 CFR parts 75, 77, 79, 80, 81, 82, 84, 85, 86, 97, 98, and 99.

Note: The regulations in 34 CFR part 79 apply to all applicants except Federally recognized Indian tribes.

Note: The regulations in part 86 apply to institutions of higher education only.

II. Award Information

Type of Award: Discretionary grants.

Estimated Available Funds: $1,700,000.

Estimated Average Size of Award: $1,700,000.

Estimated Number of Awards: 1.

Note: The Department is not bound by any estimates in this notice.

Project Period: Up to 48 months. Applicants under this competition are required to provide detailed budget information for each year of the proposed project and for the total grant. The Department will negotiate funding levels for each 12-month period of the grant at the time of the award.

Note: The Secretary has concluded that 4-year awards are necessary for the grantee to fulfill the purpose of the Financial Education for College Access and Success Program. As outlined in this notice, 4-year funding will: (a) Allow the grantee to develop the instructional materials and assessments; (b) allow time for the instructional materials, teacher training, and assessments to be used with a sufficient number of participants to determine their effectiveness; and (c) allow the grantee sufficient time to collect student and teacher outcome data.

III. Eligibility Information

1. Eligible Applicants: State educational agencies (SEAs), as defined in section 9101(41) of the ESEA, that have included personal finance in their State education standards and have included in their applications documentation that they have such standards.

2. Cost Sharing or Matching: This competition does not require cost sharing or matching.

IV. Application and Submission Information

1. Address to Request Application Package: Laura Messenger, U.S. Department of Education, 400 Maryland Avenue, SW., room 11028, Potomac Center Plaza, Washington, DC 20202-7241. Telephone: (202) 245-7840 or by e-mail: laura.messenger@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission:

Requirements concerning the content of an application, together with the forms you must submit, are in the application package for this competition.

Page Limit: The application narrative (Part III of the application) is where you, the applicant, address the selection criteria that reviewers use to evaluate your application.

While you are not required to do so, we strongly suggest that you limit the application narrative [Part III] to the equivalent of no more than 40 pages using the following standards:

• A ”page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The suggested page limit does not apply to Part I, the cover sheet; Part II, the budget section, including the narrative budget justification; Part IV, the assurances and certifications; or the one-page abstract, the resumes, the memorandum of understanding, or the match commitment. However, the suggested page limit does apply to all of the application narrative section [Part III].

3. Submission Dates and Times:

Applications Available: July 26, 2010.

Deadline for Notice of Intent to Apply: August 5, 2010.

The Department will be able to develop a more efficient process for reviewing grant applications if it has a better understanding of the number of entities that intend to apply for funding under this competition. Therefore, the Secretary strongly encourages each potential applicant to notify the Department by sending a short e-mail message indicating the applicant's intent to submit an application for funding. The e-mail should include only the applicant's intent to submit an application; it does not need to include information regarding the content of the proposed application. This e-mail notification should be sent no later than August 5, 2010 to Laura Messenger at: laura.messenger@ed.gov. You must include “FinanceEd Intent to Apply” in the subject line of your electronic message. The notice of intent to apply is optional. We will consider an application submitted by the deadline for transmittal of applications even if the applicant did not provide an e-mail notification of its intent to apply.

Deadline for Transmittal of Applications: September 9, 2010.

Applications for grants under this program must be submitted electronically using the Electronic Grant Application System (e-Application) accessible through the Department's e-Grants site. For information (including dates and times) about how to submit your application electronically, or in paper format by mail or hand delivery if you qualify for an exception to the electronic submission requirement, please refer to section IV.7. Other Submission Requirements of this notice.

We do not consider an application that does not comply with the deadline requirements.

Individuals with disabilities who need an accommodation or auxiliary aid in connection with the application process should contact the person listed under For Further Information Contact in Section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this competition must be submitted electronically unless you qualify for an exception to this requirement in accordance with the instructions in this section.

a. Electronic Submission of Applications.

Applications for grants under the Financial Education for College Access and Success program, CFDA Number 84.215W, must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this program after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, the Financial Education for College Access and Success Budget Spreadsheet(s), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application, and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement and may submit your application in paper format if you are unable to submit an application through e-Application because—

• You do not have access to the Internet; or

• You do not have the capacity to upload large documents to e-Application; and

• No later than two weeks before the application deadline date (14 calendar days; or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Laura Messenger, U.S. Department of Education, 400 Maryland Avenue, SW., PCP, room 11028, Washington, DC 20006-8524. FAX: (202) 245-7170.

Your paper application must be submitted in accordance with the mail or hand delivery instructions described in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.215W), 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.215W), 550 12th Street, SW., Room 7041, Potomac Center Plaza, Washington, DC 20202-4260.

The Application Control Center accepts hand deliveries daily between 8 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The following selection criteria are from 34 CFR 75.210 in EDGAR.

The maximum score for all the selection criteria is 100 points. The maximum score for each criterion is indicated in parentheses with the criterion. The selection criteria are as follows:

(1) Significance (up to 20 points).

(a) The Secretary considers the significance of the proposed project.

(b) In determining the significance of the proposed project, the Secretary considers—

(i) The significance of the problem or issue to be addressed by the proposed project;

(ii) The extent to which the proposed project is likely to build local capacity to provide, improve, or expand services that address the needs of the target population;

(iii) The extent to which the proposed project involves the development or demonstration of promising new strategies that build on, or are alternatives to, existing strategies;

(iv) The likely utility of the products (such as information, materials, processes, or techniques) that will result from the proposed project, including the potential for their being used effectively in a variety of other settings; and

(v) The extent to which the results of the proposed project are to be disseminated in ways that will enable others to use the information or strategies.

(2) Quality of the project design (up to 25 points).

(a) The Secretary considers the quality of the design of the proposed project.

(b) In determining the quality of the design of the proposed project, the Secretary considers—

(i) The extent to which the goals, objectives, and outcomes to be achieved by the proposed project are clearly specified and measurable;

(ii) The extent to which the design of the proposed project includes a thorough, high-quality review of the relevant literature, a high-quality plan for project implementation, and the use of appropriate methodological tools to ensure successful achievement of project objectives;

(iii) The extent to which the proposed development efforts include adequate quality controls and, as appropriate, repeated testing of products;

(iv) The extent to which the proposed project will be coordinated with similar or related efforts, and with other appropriate community, State, and Federal resources; and

(v) The extent to which the proposed project is part of a comprehensive effort to improve teaching and learning and support rigorous academic standards for students.

(3) Quality of project personnel (up to 15 points).

(a) The Secretary considers the quality of the project personnel who will carry out the proposed project.

(b) In determining the quality of project personnel, the Secretary considers the extent to which the applicant encourages applications for employment from persons who are members of groups that have traditionally been underrepresented based on race, color, national origin, gender, age, or disability;

(c) In addition, the Secretary considers—

(i) The qualifications, including relevant training and experience, of the project director and principal investigator;

(ii) The qualifications, including relevant training and experience, of key project personnel; and

(iii) The qualifications, including relevant training and experience, of project consultants or subcontractors.

(5) Quality of the management plan (up to 10 points).

(a) The Secretary considers the quality of the management plan for the proposed project.

(b) In determining the quality of the management plan of the proposed project, the Secretary considers—

(i) The adequacy of the management plan to achieve the objectives of the proposed project on time and within budget, including clearly defined responsibilities, timelines, and milestones for accomplishing project tasks;

(ii) The adequacy of procedures for ensuring feedback and continuous improvement in the operation of the proposed project; and

(iii) The extent to which the time commitments of the project director and principal investigator and other key project personnel are appropriate and adequate to meet the objectives of the proposed project.

(6) Adequacy of resources (up to 10 points).

(a) The Secretary considers the adequacy of resources for the proposed project.

(b) In determining the adequacy of resources for the proposed project, the Secretary considers—

(i) The relevance and demonstrated commitment of each partner in the proposed project to the implementation and success of the project;

(ii) The extent to which the costs are reasonable in relation to the objectives, design, and potential significance of the proposed project; and

(iii) The potential for the incorporation of project purposes, activities, or benefits into the ongoing program of the agency or organization at the end of Federal funding.

(7) Quality of the project evaluation (up to 20 points).

(a) The Secretary considers the quality of the evaluation to be conducted of the proposed project.

(b) In determining the quality of the evaluation, the Secretary considers—

(i) The extent to which the methods of evaluation are thorough, feasible, and appropriate to the goals, objectives, and outcomes of the proposed project;

(ii) The extent to which the methods of evaluation include the use of objective performance measures that are clearly related to the intended outcomes of the project and will produce quantitative and qualitative data to the extent possible; and

(iii) The extent to which the evaluation will provide guidance about effective strategies suitable for replication or testing in other settings.

VI. Award Administration Information

1. Award Notices: If your application is successful, we notify your U.S. Representative and U.S. Senators and send you a Grant Award Notification (GAN). We may notify you informally also.

If your application is not evaluated or not selected for funding, we notify you.

2. Administrative and National Policy Requirements: We identify administrative and national policy requirements in the application package and reference these and other requirements in the Applicable Regulations section of this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993, Federal departments and agencies must clearly describe the goals and objectives of programs, identify resources and actions needed to accomplish goals and objectives, develop a means of measuring progress made, and regularly report on achievement. In order for the Department to be able to determine the overall effectiveness of projects funded under this competition, the grantee must be prepared to measure and report on the following measures of effectiveness:

• The percentage of participating students who make an educationally significant improvement in their understanding of personal finance.

• The percentage of participating low income students who complete the FAFSA.

• The percentage of participating low-income students who enroll in college.

VII. Agency Contact

For Further Information Contact: Laura Messenger, U.S. Department of Education, 400 Maryland Avenue, SW., room 11028, Potomac Center Plaza, Washington, DC 20202-7241. Telephone: (202) 245-7772, or by e-mail: laura.messenger@ed.gov. If you use a TDD, call the FRS, toll free, at 1-800-877-8339.

VIII. Other Information

Accessible Format: Individuals with disabilities can obtain this document and a copy of the application package in an accessible format (e.g., braille, large print, audiotape, or computer diskette) on request to the program contact person listed under For Further Information Contact in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 21, 2010.
Brenda Dann-Messier,
Assistant Secretary for Vocational and Adult Education.

[FR Doc. 2010-18253 Filed 7-23-10; 8:45 am]

BILLING CODE 4000-01-P